THE NATIONAL FOUNDATION ON THE ARTS AND THE HUMANITIES

Meetings of Humanities Panel

AGENCY: The National Endowment for the Humanities.

ACTION: Notice of Meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Michael P. McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: October 4, 2011.

Time: 9 a.m. to 5 p.m.

Location: Room 415.

Program: This meeting will review applications for Literature in Preservation and Access Humanities Collections and Reference Resources, submitted to the Division of Preservation and Access at the July 20, 2011 deadline.

2. Date: October 6, 2011.

Time: 9 a.m. to 5 p.m.

Location: Room 415.

Program: This meeting will review applications for U.S. History & Culture I in Preservation and Access Humanities Collections and Reference Resources, submitted to the Division of Preservation and Access at the July 20, 2011 deadline.

3. Date: October 12, 2011.

Time: 9 a.m. to 5 p.m.

Location: Room 415.

Program: This meeting will review applications for Art History in Preservation and Access Humanities Collections and Reference Resources, submitted to the Division of Preservation and Access at the July 20, 2011 deadline.

4. Date: October 18, 2011.

Time: 9 a.m. to 5 p.m.

Location: Room 415.

Program: This meeting will review applications for Music & Performing Arts in Preservation and Access Humanities Collections and Reference Resources, submitted to the Division of Preservation and Access at the July 20, 2011 deadline.

5. Date: October 18, 2011.

Time: 9 a.m. to 5 p.m.

Location: Room 421.

Program: This meeting will review applications for United States History in America's Historical and Cultural Organizations Grants Program, submitted to the Division of Public Programs at the August 17, 2011 deadline.

6. Date: October 20, 2011.

Time: 9 a.m. to 5 p.m.

Location: Room 421.

Program: This meeting will review applications for International Cultures in America's Media Makers Grants Program, submitted to the Division of Public Programs at the August 17, 2011 deadline.

7. Date: October 21, 2011.

Time: 9 a.m. to 5 p.m.

Location: Room 421.

Program: This meeting will review applications for Anthropology in America's Historical and Cultural Organizations Grants Program, submitted to the Division of Public Programs at the August 17, 2011 deadline.

8. Date: October 24, 2011.

Time: 9 a.m. to 5 p.m.

Location: Room 421.

Program: This meeting will review applications for American Studies in America's Media Makers Grants Program, submitted to the Division of Public Programs at the August 17, 2011 deadline.

9. Date: October 25, 2011.

Time: 9 a.m. to 5 p.m.

Location: Room 415.

Program: This meeting will review applications for U.S. History and Culture II in Preservation and Access Humanities Collections and Reference Resources, submitted to the Division of Preservation and Access at the July 20, 2011 deadline.

10. Date: October 26, 2011.

Time: 9 a.m. to 5 p.m.

Location: Room 421.

Program: This meeting will review applications for American History in America's Historical and Cultural Organizations Grants Program, submitted to the Division of Public Programs at the August 17, 2011 deadline.

11. Date: October 27, 2011.

Time: 9 a.m. to 5 p.m.

Location: Room 421.

Program: This meeting will review applications for United States History in America's Historical and Cultural Organizations Grants Program, submitted to the Division of Public Programs at the June 29, 2011 deadline.

12. Date: October 27, 2011.

Time: 9 a.m. to 5 p.m.

Location: Room 415.

Program: This meeting will review applications for U.S. History and Culture III in Preservation and Access Humanities Collections and Reference Resources, submitted to the Division of Preservation and Access at the July 20, 2011 deadline.

13. Date: October 31, 2011.

Time: 9 a.m. to 5 p.m.

Location: Room 315.

Program: This meeting will review applications for Enduring Questions, submitted to the Division of Education Programs at the September 15, 2011 deadline.

Michael P. McDonald,
Advisory Committee Management Officer.

[FR Doc. 2011-24012 Filed 9-16-11; 8:45 am]

BILLING CODE 7536-01-P